ENVIRONMENTAL PROTECTION AGENCY

[ER-FRL-6629-1]

Environmental Impact Statements; Notice of Availability

Responsible Agency: Office of Federal Activities, General Information (202) 564-7167 or www.epa.gov/oeca/ofa

Weekly receipt of Environmental Impact Statements

Filed April 29, 2002 Through May 03, 2002 Pursuant to 40 CFR 1506.9.

EIS No. 020169, Final EIS, AFS, MO, Oak Decline and Forest Health Project, To Improve Forest Health, Treat Affected Stands, Recover Valuable Timber Products, Promote Public Safety, Potosi and Salem Ranger Districts, mark Twain National Forest, Crawford, Dent, Iron, Reynolds, Shannon and Washington, MO, Wait Period Ends: June 10, 2002, Contact: Karen Mobley (573) 729-6656.

EIS No. 020170, Draft EIS, COE, WV, Spurce Mine No. 1 Surface Mine Project, Proposed to Extraction (i.e., Maximum Mineral Recovery Based on Economic Considerations and Landowner Commitments) of High Quality Coal Reserve, Located in Blair, Logan County, WV, Comment Period Ends: June 24, 2002, Contact: James M. Richmond (304) 529-5210.

EIS No. 020171, Final EIS, USA, TX, Programmatic EIS—Fort Sam Houston, Camp Bullis, and Canyon Lake Recreation Area Master Plan, Implementing Revisions to the Existing 1988 Land Use Plan, City of San Antonio, TX, Wait Period Ends: June 10, 2002, Contact: Jackie Schlatter (210) 221-5093.

EIS No. 020172, Draft EIS, FRC, OR, North Umpqua Hydroelectric Project (FERC Project 1927), Issuing of Application for a New License for the Existing 185.5-megawatt (MW), Located on the North Umpqua River, Douglas County, OR, Comment Period Ends: June 24, 2002, Contact: John Smith (202) 219-2460. This document is available on the Internet at: http://www.ferc.gov/.

EIS No. 020173, Draft EIS, AFS, ID, The West Gold Creek Project, Proposing Forest Management Activities, Implementation, Idaho Panhandle National Forests, Sandpoints Ranger District, Bonner County, ID, Comment Period Ends: June 24, 2002, Contact: Judy York (208) 265-6665. This document is available on the Internet at: (www.ferc.gov.)

EIS No. 020174, Draft EIS, USN, CA, Naval Station Treasure Island Disposal and Reuse Property, Implementation, Local Redevelopment Authority (LRA), City of San Francisco, San Francisco County, CA, Comment Period Ends: June 24, 2002, Contact: Timarie Seneca (619) 532-0995.

EIS No. 020175, Final EIS, BLM, CA, Mesquite Mine Expansion Project, To Expand the Existing Open-Pit, Heap-Leach, and Precious Metal Mine, Federal Mine Plan of Operations Approval, Conditional Use Permits and Reclamation Plan Approval, Imperial County, CA, Wait Period Ends: June 10, 2002, Contact: Kevin Marty (760) 337-4422. This document is available on the Internet at: www.ca.blm.gov/elcentro/mesquite/.

EIS No. 020176, Final EIS, AFS, WA, Upper Charley Subwatershed Ecosystem Restoration Projects, Implementation, Pomeroy Ranger District, Umatilla National Forest, Garfield County, WA, Wait Period Ends: June 10, 2002, Contact: Monte Fujishin (509) 843-1891.

EIS No. 020177, Final EIS, NOA, HI, GU, AS, Coral Reef Ecosystems of the Western Pacific Region, Fishery Management Plan, Including Amendments to Four Existing (FMPs), Amendment 7—Bottomfish and Seamount Groundfish Fisheries, Amendment 11—Crustaceans Fisheries; Amendment 5—Precious Corals Fisheries and Amendment 10—Pelagics Fisheries, HI, GU and AS, Wait Period Ends: June 10, 2002, Contact: Charles Karnella (808) 973-2937.

Dated: May 7, 2002.
Joseph C. Montgomery,
Director, NEPA Compliance Division, Office of Federal Activities.

[FR Doc. 02-11783 Filed 5-9-02; 8:45 am]

BILLING CODE 6560-50-M